DEPARTMENT OF LABOR

Office of the Secretary

Caribbean Labor Market Information System Project

AGENCY: Bureau of International Labor Affairs, Department of Labor.

ACTION: Notice of availability of funds and solicitation for cooperative agreement applications (SGA 01-10).

This Notice Contains All of the Necessary Information and Forms Needed To Apply for Cooperative Agreement Funding.

SUMMARY: The U.S. Department of Labor, Bureau of International Labor Affairs (ILAB), will award funds through a cooperative agreement to one organization to support the development and implementation of a labor market information system in the English-speaking Caribbean and Suriname. The countries include Trinidad and Tobago, Jamaica, Barbados, the Bahamas, Antigua and Barbuda, St. Vincent and the Grenadines, Suriname, Guyana, Belize, Dominica, Grenada, Saint Lucia, and the Federation of Saint Christopher and Nevis. ILAB is seeking applications from qualified organizations to facilitate the development of more effective employment and labor market policies in the region by generating reliable, timely, and internationally comparable labor market information. This is the second phase of an existing project begun in April 2000.

DATES: The closing date for receipt of applications is September 12, 2001. Applications must be received by 4:45 p.m. (Eastern Daylight Savings Time) at the address below. No exceptions to the mailing and hand-delivery conditions set forth in this notice will be granted. Applications that do not meet the conditions set forth in this notice will not be honored. Telefacsimile (FAX) applications will not be accepted.

ADDRESSES: Application forms will not be mailed. They are published in the Federal Register, which may be obtained from your nearest U.S. Government office or many public libraries. Applications must be hand-delivered or submitted by mail to: U.S. Department of Labor, Procurement Services Center, 200 Constitution Avenue, NW., Room N5416, Attention: Lisa Harvey, Reference: SGA 01-10, Washington, D.C. 20210.

FOR FURTHER INFORMATION CONTACT: Questions concerning this solicitation may be sent to Lisa Harvey at the following e-mail address: harvey-lisa@dol.gov. All inquires should reference SGA 01-10.

SUPPLEMENTARY INFORMATION: ILAB, U.S. Department of Labor (USDOL, Department, or Grantor), announces the availability of funds to be granted through a cooperative agreement to one qualifying organization for the purpose of achieving more reliable labor market information in the English-speaking Caribbean and Suriname in support of developing more effective employment and labor market policies in the region. The cooperative agreement is to be actively managed by the Office of Foreign Relations (OFR), ILAB, to assure achievement of the stated goal. Applicants are encouraged to be creative in proposing cost-effective interventions that will have a demonstrable impact on improving the labor market information systems in the English-speaking Caribbean and Suriname.

Definitions: (a) Social statistics include areas such as education, poverty, health and labor. (b) Social partners are government, trade unions and employer organizations. (c) Working culture refers to the development of an environment within an organization that supports the belief that labor market information is essential to policy formulation.

I. Background and Program Scope

A. USDOL Technical Assistance

The OFR carries out a worldwide international technical assistance program to improve the welfare of workers through expanding economic opportunity and income security for workers, protecting the basic rights of workers, and reducing the prevalence of HIV/AIDS through workplace education. This SGA seeks one qualified organization to develop and implement a labor market information system project in the English-speaking Caribbean and Suriname in support of expanding economic opportunity and income security for workers.

B. Labor Market Information System—Phase One

In phase one of the labor market information system project in the English-speaking Caribbean and Suriname, USDOL dedicated much of its efforts to help build and enhance the capacity for the production and use of labor market information at the national and regional levels. USDOL has successfully implemented intensive activities of technical support and training. This technical assistance consisted of training to enhance the institutional framework of Ministries of Labor and Central Statistical Offices in the English-speaking Caribbean and Suriname to support labor market information through an improved human resource base. Specific training activities included:

1. Direct Technical Assistance

The Bureau of Labor Statistics provided current senior employees and recommended recent retirees to serve as technical experts in the areas of sample design and labor force data collection and analysis. They worked in the countries for one week periods of time providing direct technical assistance to Ministries of Labor and Central Statistical Offices to develop labor force surveys. The experts also attempted to facilitate a better level of communication between the Ministries of Labor and Central Statistical Offices in the countries.

2. Seminar on Linking Labor Market Information to Labor Market Policy

The purpose of the meeting was to illustrate the link between labor market information and the needs of policymakers in government, trade unions, and employer organizations. The meeting was attended by high-level officials from the Ministries of Labor, Central Statistical Offices, trade unions, and employer organizations throughout the region.

3. Bureau of Labor Statistics Seminar on Sampling and Data Processing

The objective of the two-week training was to develop participants' capability to create sample frames for statistical surveys and process the survey data collected by utilizing statistical computing systems. The training was attended by labor market information staff from Ministries of Labor and Central Statistical Offices within the region.

4. Seminar on Labor Market Analysis

The objective of the two-week training was to enhance the ability of the countries to use labor market information to analyze employment and labor market issues and formulate policies in response to the challenges of globalization facing the region. The training was attended by labor market information staff from the Ministries of Labor and Central Statistical Offices in the region and the social partners. The tripartite character of the training reinforced social dialogue and a better understanding from all parties on the importance of labor market information.

5. Bureau of Labor Statistics Seminars

Technical staff from Ministries of Labor and Central Statistical Offices in the region attended USDOL's Bureau of Labor Statistics Seminars on Employment and Unemployment and Labor Market Information.

During the implementation of phase one, ILAB partnered with various agencies within USDOL as well as international and regional organizations and experts to ensure that the necessary skills and knowledge were disseminated within a national and regional context. Applicants may review Phase One background information at the following website: http://www.dol.gov/dol/ilab/public/programs/ofr/procurement/main.htm

C. Regional Challenges

National development strategies and programs in the Caribbean have increasingly stressed the role of employment policies and the need to strengthen the capability in the region to design and monitor such policies. Human resources are central to the development process of the Caribbean. With their small, but well-educated populations, human capital is considered the key to successful economic development. Highly skilled and semi-skilled human resources in the region however, are becoming increasingly mobile in the current international environment. The developments in the new global financial order and more open international trade regimes under the World Trade Organization (WTO) rules have further placed these small vulnerable economies and their labor markets under formidable pressure to adjust. The main challenge of these countries is to create new institutional capacities to deal with a rapidly changing environment. Due to this, there has been a growing need for social statistics, in particular labor statistics. As a result, labor market information has been identified as an essential tool to improve the functions of the labor market in the region.

Furthermore, there is a need for comparability of labor statistics among countries in the Western Hemisphere. This need will become more urgent with the expansion of a free trade area throughout the Hemisphere.

The Caribbean has made great efforts in the last decade to establish and sustain a capability for producing labor market statistics. The level of labor market information system development however, varies widely across the region. The larger countries have created some of the basic building blocks to develop a concrete labor market information system and in some cases attempted to automate their systems, while the smaller countries have yet to establish the most basic elements of a labor market information system. Still, all the countries are faced with obstacles such as scarcity of funds, weakness of analysis and projections, and unavailability of consistent data collected from the field in their systems.

All actors involved in the process of regionalization and globalization need credible and timely labor market information to successfully respond to the aforementioned issues. Labor market information systems in the region however, are relatively weak and therefore are unable to play this critical policy role.

II. Authority

ILAB is authorized to award and administer this project by the Consolidated Appropriations Act, 2001, Pub. L. No. 106-554, 114 Stat. 2763A-10 (2000).

III. Application Process

A. Eligible Applicants

Any organization capable of successfully developing and implementing a labor market information system project in the English-speaking Caribbean and Suriname in order to facilitate the development of more effective employment and labor market policies in the region is eligible to apply for this cooperative agreement award. The capability of an applicant to perform necessary aspects of this solicitation will be determined under Section V(B) Rating Criteria.

Please Note That Eligible Cooperative Agreement Applicants Must Not Be Classified Under The Internal Revenue Code As A Section 501(c)(4) Entity. See 26 U.S.C. 506(c)(4). According to Section 18 of the Lobbying Disclosure Act of 1995, 2 U.S.C. 1611 an organization, as described in Section 501 (c)(4) of the Internal Revenue Code of 1986, that engages in lobbying activities will not be eligible for the receipt of federal funds constituting an award, grant, or loan.

B. Submission of Applications

One (1) ink-signed original, complete application plus two (2) copies, must be received by the U.S. Department of Labor, Procurement Services Center, 200 Constitution Avenue, NW., Room N-5416, Washington, D.C. 20210, no later than 4:45 p.m. EDT, September 12, 2001.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work and the selection criteria. The applicant is advised that the Proposal must be based on the example listed in the Review Criteria.

To be considered responsive to this solicitation, the application must consist of the above-mentioned separate sections not to exceed 70 single-sided (8½″ x 11″), double-spaced, 10 to 12 pitch typed pages. Any Proposals That Do Not Conform to These Standards May Be Deemed Non-Responsive to This Solicitation and May Not Be Evaluated. Standard forms and attachments are not included in page limit.

The individual signing the SF 424 on behalf of the applicant must be authorized to bind the applicant.

Each proposal must include a table of contents and an abstract summarizing the proposal in not more than two (2) pages. The table of contents and abstract do not count against the page limitation of the technical proposal.

C. Acceptable Methods of Submission

Applications may be hand-delivered or mailed. Hand-delivered applications must be received by the Procurement Services Center by the date and time specified. Any application received at the Procurement Services Center after 4:45 p.m. September 12, 2001 will not be considered unless it is received before an award is made and:

a. It was sent by registered or certified mail no later than the fifth calendar day before September 12, 2001.

b. It is determined by the Government that the late receipt was due solely to mishandling by the Government after receipt at the U.S. Department of Labor at the above address; or

c. It was sent by U.S. Postal Service Express Mail Next Day Service-Post Office to Addressee, no later than 5:00 p.m. EDT at the place of mailing two working days, excluding weekends and Federal holidays, before September 12, 2001.

The only acceptable evidence to establish the date of mailing of a late application sent by registered or certified mail is the U.S. Postal Service postmark on the envelope or wrapper and on the original receipt from the U.S. Postal Service. If the postmark is not legible on the envelope or wrapper, an application received after the above closing time and date will not be considered. “Postmark” means a printed, stamped, or otherwise placed impression (not a postage meter machine impression) that is readily identifiable without further action as having been applied and affixed by an employee of the U.S. Postal Service on the date of mailing. Therefore, applicants must request that the postal clerk place legible hand cancellation bull's-eye postmark on both the receipt and the wrapper or envelope.

The only acceptable evidence to establish the date of mailing of a late application sent by the U.S. Postal Service Mail Next Day Service-Post Office to Addressee is the date entered by the post office receiving clerk on the “Express Mail next Day Service-Post Office to Addressee” label and the postmark on the envelope or wrapper and on the original receipt from the U.S. Postal Service. “Postmark” has the same meaning as defined above. Therefore, applicants must request that the postal clerk place a legible hand cancellation bull's-eye postmark on both the receipt and the envelope or wrapper.

The only acceptable evidence to establish the time of receipt of a hand-delivered application at the U.S. Department of Labor is the date/time stamp of the Procurement Services Center on the application wrapper or other documentary evidence of receipt maintained by that office.

Applications sent by e-mail, telegram, or telefacsimile (FAX) will not be accepted.

D. Funding Levels

Approximately $1 million is available for this project, to fund activities in thirteen (13) countries of the English-speaking Caribbean and Suriname.

E. Length of Grant Period

The performance period for the cooperative agreement awarded under this SGA is three (3) years. Each applicant must reflect in its application the intention to begin operation no later than September 30, 2001.

IV. Requirements

A. Statement of Work

Applicants must propose work in all of the following areas in the English-speaking Caribbean and Suriname:

1. Participate in design missions to develop a strategy for project implementation;

2. Develop an institutional framework/plan by evaluating national classifications, labor force surveys, productivity data, and occupational wages;

3. Develop a program that aims to achieve more effective employment and training programs that are responsive to the new challenges of regional and hemispheric integration and globalization by generating reliable, timely and internationally comparable labor market information. To accomplish this, the following must be provided:

a. A standard research methodology and set of critical labor market indicators that are consistent with international occupational classification system norms accepted by members of Caribbean Community (CARICOM) and utilized in phase one, as well as supportive of the current efforts within the Caribbean to adopt a set of acceptable indicators for the region. International, regional, and national specialists should be used in the development of the methodology and indicators to ensure a connection between international standards and regional and national standards;

b. Based on the establishment of labor market indicators, a computerized data base utilizing the international and regional recognized occupational classification system is created to house, access, and analyze the labor market data in order to make labor market information more timely and accessible; and

c. A labor market information database within six (6) countries that is linked to regional and global labor market databases and utilizing the international and regional recognized occupational classification system. This would include the development and implementation of software in each country, design the database avoiding duplication of previous international efforts, and input the data in the required format into the system.

4. Conduct extensive training using regional experts and the expertise of the U.S.

Bureau of Labor Statistics on the national and regional level to enhance the ability to utilize labor market information in support of labor market policy development, to adopt a set of standards and guidelines for labor market information, to provide technical assistance, and to engage the social partners in understanding the relevance of labor market information;

5. Facilitate sustainability of the project;

a. Develop a working culture within the government and the social partners to foster the belief that accurate and timely labor market information is fundamental to sound policy and workforce development;

b. Ensure the labor market information professionals are trained in the proper techniques and given the necessary tools to collect, analyze, and disseminate labor market information to all partners; and

c. Draw employers, trade unions, educational and training institutions and policy markers more closely into the production, use, and dissemination of labor market information by showing that it has a direct impact on their actions.

6. Monitoring, reporting, and self-evaluation: regularly monitoring project outcomes and reporting to ILAB on project performance and conducting mid-term and final evaluations to ensure that the project objectives are met.

B. Deliverables

Unless otherwise indicated, the applicant must submit copies of all required reports to ILAB by the specified due dates. Other documents, such as project designs, are to be submitted by mutually agreed-upon deadlines.

1. A project workplan, budget, project logical framework, and key personnel organizational chart is submitted to ILAB;

2. A sustainability plan that illustrates how intended project outputs will continue beyond the scope of the project is submitted to ILAB;

3. A labor market information institutional framework is submitted to ILAB;

4. An evaluation of existing national occupational classifications, labor force surveys, productivity data, and occupational wages conducted in all countries is submitted to ILAB;

5. A standard research methodology is created;

6. A set of labor market indicators comparable with regional and international standards is designed;

7. A computerized database is designed and implemented;

8. A labor force survey is created and conducted and a survey report is produced;

9. Software is developed and implemented to support the computerized database;

10. Regional seminars with the Ministries of Labor, Central Statistical Offices, and social partners are conducted to adopt a set of core regional standards for labor statistics;

11. A regional seminar is conducted for high level policy makers in the Ministries of Labor and Central Statistical Offices to illustrate the importance of labor market information to labor market policy;

12. National seminars are conducted to implement labor market information institutional framework;

13. National seminars are conducted on the results of the labor force surveys;

14. Ministry of Labor and Central Statistical Office staff are trained in labor market information database and software;

15. A network of individuals is established and trained in the area of labor market analysis so that they can disseminate this information to the relevant partners within their respective countries;

16. A project director living full time in Port of Spain, Trinidad;

17. An office in Port of Spain, Trinidad is established within three months of grant award and maintained. The project manager and project office need to be based in Port of Spain, Trinidad for the following reasons: First, the umbrella trade union group, the Caribbean Congress of Labour, and the umbrella employers' group, the Caribbean Employers' Confederation, are located in Port of Spain, Trinidad. Open lines of communication and easy access to them will be essential to the development of the tripartite partnership necessary for this project. Second, Port of Spain, Trinidad offers daily non stop and connecting flights to the participating countries as well as the daily flights to the United States. The ability to travel easily will enable the project manager to be accessible to the participants of the project in case issues arises with implementation. Finally, Port of Spain, Trinidad is more technologically advanced than the other cities in the region. The internet is widely utilized in the country and is less expensive than in the other countries. This will allow better communication with USDOL regarding project implementation.

18. Periodic visits to countries to evaluate project progress are conducted and corrective actions are taken where necessary aftering consulting with ILAB;

19. Trip Reports. Within ten (10) days of the conclusion of any trip, a two-page trip report (exclusive of contact information) is submitted to ILAB, including purpose of trip, places and dates, list of meetings, site visits, problems encountered, accomplishments, next steps, and an annex of names and contact information of persons met;

20. Project Designs. The standard project document format established by ILAB will be used, and will include a background/justification section, project strategy (objectives, outputs, activities, indicators), institutional framework, project implementation timetable, project management organizational chart, project budget, and project logical framework. The document will also include sections which cover coordination strategies, project management, and sustainability of project improvements involving government, employers' and workers' organizations, as well as other non-governmental organizations as appropriate;

21. Technical Progress Reports. The grantee must furnish a typed technical report to ILAB on a quarterly basis by 30 March, 30 June, 30 September, and 31 December of each year. The grantee must also furnish a separate financial report to ILAB on the same quarterly basis. The format for the technical progress report will be the standard format developed by ILAB and must contain the following information:

a. For each project objective, an accurate account of activities carried out under that objective during the reporting period;

b. An accounting of staff and any subcontractor hours expended;

c. An accounting of travel performed under the cooperative agreement during the reporting period, including purpose of trip, persons or organizations contacted, and benefits derived;

d. A description of current problems that may impede performance, and proposed corrective action;

e. For each project objective, a discussion of the work to be performed during the balance of the cooperative agreement; and

f. Aggregate amount of costs incurred during the reporting period.

22. Evaluation Plan. An evaluation plan for all projects, to be developed in collaboration with ILAB, including beginning and ending dates for projects, planned and actual dates for mid-term reviews, and final end of project evaluations;

23. Evaluation Reports. The grantee and the Grant Officer's Technical Representative (GOTR) will determine on a case-by-case basis whether mid-term evaluations will be conducted by an internal or external evaluation team. All final evaluations will be external in nature. The GOTR must approve the mid-term evaluation before further work is done. The grantee will respond to any comments and recommendation resulting from the review of the mid-term report; and

24. Final Report. A detailed final report with executive summary on project activities and outcomes is delivered and accepted by ILAB. The format of this report will be determined by ILAB and it will be delivered in both electronic and hard copy media.

C. Production of Deliverables

1. Material Prepared and Purchased Under the Cooperative Agreement

The grantee must submit to ILAB all media-related and educational materials developed under this grant for use in this project before they are reproduced, published, or used. The grantee must consult with ILAB to ensure that materials are compatible with ILAB materials relating to the program, i.e. public relations materials such as videos and a website. ILAB considers brochures, pamphlets, videotapes, slide-tape shows, curricula, and any other training materials used in the program, education materials. ILAB will review materials for technical accuracy. ILAB will also review training curricula and purchased training materials for accuracy before they are used. The grantee must obtain prior approval from the Grant Officer for all materials developed or purchased under this grant.

Provide ILAB material that you publish, print or reproduce. All material produced by the grantee must be provided to ILAB in a digital format for possible publication on the Internet by ILAB.

2. Printing and Duplication

The grantee must comply with all duplicating and printing regulations issues by the Joint Commission on Printing under authority of 44 U.S.C. 103, 501, and 502. The term “duplicating” as used means material produced on single unit duplicating equipment not larger than 11 by 17 inches and which have a maximum image of 10¾ × 14¼ inches using direct image plates not requiring the use of negatives. The term “printing” as used must be constructed to include and apply to the processes of composition, platemaking, presswork, binding, and microform.

Under this grant, the grantee may duplicate up to a maximum of 5,000 copies of one page or 25,000 copies in the aggregate of multiple pages.

The grantee must not use funds under this grant to provide duplicating in excess of the quantities stated above nor provide printing without the written authorization of the Joint Committee on Printing. Such authorization must be requested and obtained from the Grant Officer through the Department Printing Officer. Nothing in this clause precludes the procurement of writing, editing, preparation of manuscript copy, or preparation of related illustrative materials.

3. Acknowledgement of USDOL Funding

In all circumstances, the following must be displayed on printed materials:

“Preparation of this item was funded by the United States Department of Labor under Cooperative Agreement No. (insert the appropriate grant number).”

When issuing statements, press releases, requests for proposals, bid solicitations, and other documents describing projects or programs funded in whole or in part with Federal money, all grantees receiving Federal funds must clearly state:

a. The percentage of the total costs of the program or project which will be financed with Federal money;

b. The dollar amount of Federal funds for the project or program; and

c. The percentage and dollar amount of the total costs of the project or program that will be financed by non-governmental sources.

In consultation with ILAB, identification of USDOL's role will be determined to be one of the following:

a. The USDOL logo may be applied to USDOL-funded material prepared for world-wide distribution, including posters, videos, pamphlets, research documents, national survey results, impact evaluations, best practices reports, and other publications of global interest. The grantee will consult with USDOL on whether the logo should be used on any such items prior to final draft or final preparation for distribution. In no event will the USDOL logo be placed on any item until USDOL has given the grantee written permission to use the logo, after obtaining appropriate internal USDOL approval for use of the logo on the item.

b. If the ILAB determines the logo is not appropriate and does not give written permission, the following notice must appear on the document:

“This document does not necessarily reflect the views or policies of the U.S. Department of Labor, nor does mention of trade names, commercial products, or organizations imply endorsement by the U.S. Government.”

D. Administrative Requirements

1. General

Grantee organizations will be subject to applicable Federal laws (including provisions of appropriation law) and the applicable Office of Management and Budget (OMB) Circulars. Determination of allowable costs will be made in accordance with applicable Federal cost principles. The grant awarded under this SGA will be subject to the following administrative standards and provisions, if applicable:

29 CFR part 95—Uniform Administrative Requirements for Grants and Agreements with Institutions of Higher Education, Hospitals and Other Non-Profit Organizations, and with Commercial Organizations, Foreign Governments, Organizations Under the Jurisdiction of Foreign Governments and International Organizations.

29 CFR part 96—Federal Standards for Audit of Federally Funded Grants, Contracts and Agreement.

2. Subgrants/Contracts

Subgrants and contracts must be awarded in accordance with 29 CFR 95.40.

3. Key Personnel

The applicant must list the individuals(s) who have been designated by the grantee as having primary responsibility for the conduct and completion of all work in the project it proposes. The grantee agrees to inform the GOTR whenever it appears impossible for these individual(s) to continue work on the project as planned. The grantee may nominate substitute personnel for approval of the GOTR; however, the grantee must obtain prior approval from the Grant Officer for all key personnel. If the Grant Officer determines not to approve the personnel change, he/she reserves the right to terminate the cooperative agreement.

4. Encumbrance of Cooperative Agreement Funds

Cooperative agreement funds may not be encumbered/obligated by the grantee before or after the grant period of performance. Encumbrances/obligations outstanding as of the end of the cooperative agreement period may be liquidated (paid out) after the end of the cooperative agreement period. Such encumbrances/obligations may involve only commitments for which a need existed during the cooperative agreement period and which are supported by approved contracts, purchase orders, requisitions, invoices, bills, or other evidence of liability consistent with the grantee's purchasing procedures and incurred within the grant period. All encumbrances/obligations incurred during the grant period must be liquidated within 90 days after the end of the grant period, if practicable.

5. Site Visits

The grantor, through its authorized representatives, has the right, at all reasonable times, to make site visits to review project accomplishments and management control systems and to provide such technical assistance as may be required. If the grantor makes any site visit on the premises of the grantee or a subgrantee/contractor under this grant, the grantee must provide and must require its subgrantees/contractors to provide all reasonable facilities and assistance for the safety and convenience of the Government representatives in the performance of their duties. All site visits and evaluations must be performed in such a manner as will not unduly delay the work.

V. Review and Selection of Applications for Grant Award

A. The Review Process

USDOL will screen all applications to determine whether all required elements are present and clearly identifiable. Each complete application will be objectively rated by a technical panel against the criteria described in this announcement. The panel recommendations to the Grant Officer are advisory in nature. The Grant Office may elect to select a grantee on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as: panel findings, geographic presence of the applicants, and the availability of funds. The Grant Officer's determination for award under this SGA is final.

Note: Identification of an organization as a cooperative agreement recipient does not constitute approval of the grant application submitted. Before the actual cooperative agreement is awarded, the Grant Officer may enter into negotiations concerning such items as program components, funding levels, and administrative systems. If the negotiations do not result in an acceptable submission, the Grant Officer reserves the right to terminate the negotiation and decline to fund the proposal.

B. Rating Criteria and Selection

The technical panel will review grant applicants against the criteria listed below on the basis of 100 points with up to an additional 5 points available for non-federal or leveraged resources.

The criteria are presented in the order of emphasis that they will receive.

1. Approach, Understanding of the Issue, and Budget Plan (40 Points)

a. Overview. This section of the proposal must explain:

(1) The applicant's proposed method for performing all the specific work requirements presented in this solicitation;

(2) The expected outcomes over the period of performance for each of the tasks; and

(3) The applicant's approach for producing all required deliverables.

The applicant must describe in detail the proposed approach to address each requirement, including all methods to be utilized, and scheduling of personnel and staff. The applicant must also explain the rationale for using the particular approach proposed. In addition, this section of the proposal must demonstrate the applicant's thorough knowledge and understanding of labor market information systems and policies in the English-speaking Caribbean and Suriname and work that has been done in this area by various organizations based upon their previous experience working on these issues in the region.

b. Workplan. The applicant must submit a workplan for the project that lists the immediate objectives, activities, and outputs during the life of the project, starting with the execution of the cooperative agreement and ending with the final report.

c. Technical Sample. The applicant must create a regional workplan and thirteen national workplans. The applicant must address the following points in the regional and national workplans:

(1) Describe the use of existing or potential infrastructure and the use of qualified personnel, including qualified local nationals to implement the project. The applicant must also include a project organization chart, demonstrating management structure, key personnel positions, and indicating proposed links with Government, business leaders, and trade unions. Applicants will not receive any points for actual communications with any person(s) or entities in the Caribbean region or for the creation of an infrastructure in the Caribbean region for this competitive grant process.

(2) Develop a list of activities and explain how each relates to the overall objective of achieving more reliable and timely labor market information systems in the English-speaking Caribbean and Suriname and increasing their policy relevance.

(3) Explain how appropriate information, education, and communication materials will be developed.

(4) Demonstrate how it would systematically report on project performance to measure the achievement of the project objective(s).

(5) Demonstrate how it would build local capacity to ensure that project efforts to improve the labor market information systems are sustained after completion of the project.

(6) Develop a budget for the project. NOTE: Applicants will not be evaluated on the size of the budget, but on the efficient allocation of resources and the priorities the applicant assigns to various expenditures.

d. Budget Plan. This section of the proposal must contain the applicant's budget plan for the project proposal explaining the costs for performing all of the requirements presented in this solicitation and for producing all required reports and other deliverables presented in this solicitation. Costs must include labor, equipment, travel, and other related costs.

e. Management Plan. This section also must include a management and staff loading plan. The management plan must include the following:

(1) A project organization chart and accompanying narrative which differentiates between elements of the applicant's staff and subcontractors or consultants who will be retained;

(2) A description of the functional relationship between elements of the project's organization; and

(3) The identity of the individual responsible for project management and the lines of authority between this individual and other elements of the project.

f. Staff Loading Plan. The staff loading plan must identify all key tasks and the person-days required to complete each task. Labor estimates for each task must be broken down by individuals assigned to the task, including subcontractors and consultants. All key tasks must be charted to show time required to perform them by months and weeks.

(1) Information provided on the experience and education background of personnel must indicate the following:

(a) The educational background and experience of all staff to be assigned to the project.

(b) The identity of key staff assigned to the project. “Key staff” are personnel who are essential to the successful operation of the project and completion of the proposed work and, therefore, may not be replaced or have their hours reduced without the approval of the Grant Officer.

(c) The special capabilities of staff that demonstrate prior experience in organizing, managing, and performing similar efforts.

(d) The current employment status of staff and availability for this project. The applicant must also indicate whether the proposed work will be performed by persons currently employed or is work dependent upon planned recruitment or subcontracting.

This section will be evaluated in accordance with applicable Federal laws and regulations. The budget must comply with Federal cost principles (which can be found in the applicable OMB Circulars).

2. Experience and Qualifications of the Organization (35 Points)

a. The organization applying for the award must have experience in working directly with government Ministries, specifically the Ministries of Labor and Ministries of Finance, employers' organizations, and trade unionists in each of the countries of the English-speaking Caribbean and Suriname.

1. The capability of the organization may be demonstrated by one or more staff members assigned to oversee the project with experience in labor market information systems.

b. The organization applying for the award must have an understanding and working knowledge of global initiatives to develop and apply a set of internationally recognized labor market indicators.

c. The organization applying for the award must have an established office or must show that it is able to establish an office within three months of award as mentioned in deliverable number 17 in Port of Spain, Trinidad to facilitate project implementation.

d. The organization applying for the award must have unrestricted access to a network of labor market information technical experts based in the Caribbean region and worldwide.

e. The organization applying for the award must have an understanding of USDOL's previous efforts to strengthen the labor market information systems of the countries of the region.

f. The proposal must include information regarding its previous grants, contract, or cooperative agreements. This information must include:

(1) The organization for whom work was done;

(2) A contact person in that organization with his/her current phone number;

(3) The dollar value of the grant, contract or cooperative agreement for the project(s);

(4) The time frame and professional effort involved in the project(s);

(5) A brief summary of the work performed; and

(6) A brief summary of accomplishments.

3. Experience and Qualifications of Key Personnel (25 Points)

This section of the proposal must include sufficient information for judging the quality and the competence of key staff proposed to be assigned to the project proposed to assure that they meet the required qualifications. Successful performance of the proposed work depends heavily on the qualifications of the individuals committed to the project. Accordingly, in our evaluation of the applicant's proposal, we will place considerable emphasis on the applicant's commitment of key personnel qualified for the work involved in accomplishing the assigned tasks.

The following information must be furnished:

a. The applicant must designate a Program Director to oversee the project and other key personnel to perform the requirements for the program. The Program Director must have a minimum of three (3) years of professional and technical experience with the development of labor market information systems and labor market policy in the English-speaking Caribbean region. The Program Director must also have an established relationship with employers' organizations and trade unions in the region. The Program Director will be required to live full time in Port of Spain, Trinidad to implement the program.

b. An organizational chart showing the applicant's proposed organizational structure for performing task requirements for the project proposed, along with a description of the roles and responsibilities of all key personnel proposed for the project.

c. A resume for each key personnel to be assigned to the program. At a minimum, each resume must include: the individual's current employment status and previous work experience, including position title, duties performed, dates in position, employing organizations and educational background. Duties must be clearly defined in terms of role performed, i.e. manager, team leader, consultant, etc. Resumes must be included as attachments and will not be counted again in the page limitation.

d. The current employment status of key personnel proposed for work under the cooperative agreement, i.e., whether personnel are currently employed by the organization or whether their employment depends upon planned recruitment or subcontracting. Note that the key management and professional technical staff members comprising the applicant's proposed team must be individuals who have prior experience with organizations working in similar efforts, and must be fully qualified to perform work specified in the Statement of Work. Where subcontractors or outside assistance is proposed, organizational control must be clearly delineated to ensure responsiveness to the needs of the USDOL.

4. Leveraging of Federal Funding (5 Points)

We will give up to five (5) additional rating points to proposals which include non-Federal resources that expand the dollar amount, size and scope of the proposal. The applicant may include any leveraging or co-funding anticipated. To be eligible for additional points in the criterion, the applicant must list the source(s) of funds, the nature and activities anticipated with these funds under this cooperative agreement, and any partnerships, linkages or coordination of activities, or cooperative funding.

Signed at Washington, D.C., this 15th day of August, 2001.
Lawrence J. Kuss,
Grant Officer.

BILLING CODE 4510-28-P

Appendix A: SF 424—Application Form

Appendix B: SF 424A—Budget Information Form

[FR Doc. 01-20985 Filed 8-20-01; 8:45 am]

BILLING CODE 4510-28-C